DEPARTMENT OF COMMERCE

National Oceanic and Atmospheric Administration

[I.D. 122303B]

South Atlantic Fishery Management Council; Public Meeting

AGENCY: National Marine Fisheries Service (NMFS), National Oceanic and Atmospheric Administration (NOAA), Commerce.

ACTION: Notice of the South Atlantic; Southeastern Data, Assessment, and Review (SEDAR) Workshop for Goliath grouper and hogfish.

SUMMARY: The SEDAR process for stock assessments consists of a series of three workshops, a Data Review Workshop, an Assessment Workshop, and a Review Workshop. As part of this series, an Assessment Workshop is being held for Goliath grouper and hogfish.

DATES: The workshop will take place January 27-30, 2004. The workshop will be held on January 27, 2004, 2 p.m.-5:30 p.m.; January 28-29, 2004, 8:30 a.m.-5:30 p.m.; January 30, 8:30 a.m.-3 p.m.

ADDRESSES: The workshop will be held at the Hilton Tampa Airport Westshore, 2225 North Lois Avenue, Tampa, FL 33607; telephone: (813) 877-6688.

Council address: South Atlantic Fishery Management Council, One Southpark Circle, Suite 306, Charleston, SC 29407.

FOR FURTHER INFORMATION CONTACT: Kim Iverson, Public Information Officer; telephone: (843) 571-4366 or toll free (866) SAFMC-10; fax: (843) 769-4520.

SUPPLEMENTARY INFORMATION: The South Atlantic Fishery Management Council, in conjunction with NOAA Fisheries, has implemented the SEDAR process, a multi-step method for determining the status of fish stocks. SEDAR includes three workshops: (1) Data Workshop, (2) Stock Assessment Workshop and (3) the Review Workshop. The product of the Data Workshop and the Stock Assessment Workshop is a stock assessment report. This report is then peer reviewed at the Review Workshop and a final consensus report and advisory report is prepared that includes strengths and weaknesses in the stock assessment and recommendations to fishery managers for future data and research needs. The process includes data collectors, biologists, fishermen, environmental representatives, database managers, stock assessment scientists and Council members and staff.

SEDAR 6 consists only of a Review Workshop for Goliath grouper and hogfish. This deviation from the standard SEDAR process was recommended by the SEDAR Steering Committee to address an immediate need to review these two assessments for upcoming amendments to the Snapper/Grouper Fishery Management Plan. The hogfish stock assessment was prepared by the University of Miami under contract to the state of Florida and initiated before the SEDAR process existed. The State has requested that an Assessment Review be conducted prior to accepting the stock assessment. Goliath grouper was reviewed in a prior SEDAR Data Workshop (SEDAR 3) but not assessed during the Assessment Workshop. Upon consideration at the SEDAR 3 Review Workshop, the panel indicated that an assessment could be conducted. The National Marine Fisheries Service (NOAA Fisheries) conducted the assessment as instructed and has submitted it for review.

The Review Workshop involves a peer review of the report created from the earlier two workshops.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 5 business days prior to the workshop.

Dated: December 23, 2003.
Richard W. Surdi,
Acting Director, Office of Sustainable Fisheries, National Marine Fisheries Service.

[FR Doc. E3-00661 Filed 12-30-03; 8:45 am]

BILLING CODE 3510-22-S